ENVIRONMENTAL PROTECTION AGENCY

40 CFR Part 52

[EPA-R07-OAR-2017-0477; FRL-9970-97-Region 7]

Air Quality Implementation Plans; Nebraska; Infrastructure SIP Requirements for the 2010 Nitrogen Dioxide and Sulfur Dioxide and the 2012 Fine Particulate Matter National Ambient Air Quality Standards; Withdrawal

AGENCY: Environmental Protection Agency (EPA).

ACTION: Withdrawal of direct final rule.

SUMMARY: Due to adverse comments, the Environmental Protection Agency (EPA) is withdrawing the direct final rule Approval of Nebraska Air Quality Implementation Plans; Infrastructure SIP Requirements for the 2010 Nitrogen Dioxide and Sulfur Dioxide and the 2012 Fine Particulate Matter National Ambient Air Quality Standards, published in the Federal Register on September 20, 2017. The direct final rule approved elements of a State Implementation Plan (SIP) submission from the State of Nebraska addressing the applicable requirements of Clean Air Act (CAA) section 110 for the 2010 Nitrogen Dioxide (NO2) and Sulfur Dioxide (SO2) National Ambient Air Quality Standards (NAAQS), and the 2012 Fine Particulate Matter (PM2.5) NAAQS. Section 110 of the CAA requires that each state adopt and submit a SIP to support implementation, maintenance, and enforcement of each new or revised NAAQS promulgated by EPA. These SIPs are commonly referred to as “infrastructure” SIPs.

DATES: As of November 17, 2017, the direct final rule published at 82 FR 43848, September 20, 2017, is withdrawn.

FOR FURTHER INFORMATION CONTACT: Gregory Crable, Environmental Protection Agency, Air Planning and Development Branch, 11201 Renner Boulevard, Lenexa, Kansas 66219 at (913) 551-7391, or by email at crable.gregory@epa.gov

SUPPLEMENTARY INFORMATION: Due to adverse comments, EPA is withdrawing the direct final rule to approve three Infrastructure SIPs submitted by the State of Nebraska pertaining to the 2010 NO2 and SO2 NAAQS and the 2012 PM2.5 NAAQS. In the direct final rule published in the Federal Register on September 20, 2017, (82 FR 43848), we stated that if we received adverse comment by Octber 20, 2017, the rule would be withdrawn and not take effect. EPA received adverse comments. EPA will address those comments in a subsequent final action based upon the proposed action also published in the Federal Register on September 20, 2017 (82 FR 43926). EPA will not institute a second comment period on this action.

List of Subjects in 40 CFR Part 52

Environmental protection, Air pollution control, Intergovernmental relations, Incorporation by reference, Reporting and recordkeeping requirements.

Dated: November 8, 2017.
Cathy Stepp,
Acting Regional Administrator, Region 7.

PART 52—APPROVAL AND PROMULGATION OF IMPLEMENTATION PLANS

Accordingly, the direct final rule amending 40 CFR 52.1420 published in the Federal Register on September 20, 2017 (82 FR 43848), is withdrawn.

[FR Doc. 2017-24893 Filed 11-16-17; 8:45 am]

BILLING CODE 6560-50-P